FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012201-002.

Title: WWL/K-Line Space Charter Agreement.

Parties: Wallenius Wilhelmsen Logistics AS and Kawasaki Kisen Kaisha, Ltd.

Filing Party: John P. Meade, Esq.; General Counsel; K-Line America, Inc.; 6009 Bethlehem Road; Preston, MD 21655.

Synopsis: The Amendment extends the agreement indefinitely.

By Order of the Federal Maritime Commission.
Dated: November 22, 2013.
Rachel E. Dickon,
Assistant Secretary.

[FR Doc. 2013-28499 Filed 11-26-13; 8:45 am]

BILLING CODE 6730-01-P